OFFICE OF PERSONNEL MANAGEMENT

Cancellation of Submission for Review: Presidential Management Fellows (PMF) Application, 3206-0082

AGENCY: U.S. Office of Personnel Management.

ACTION: Notice.

SUMMARY: The Office of Personnel Management (OPM) is cancelling its proposal to reinstate, with revisions, an expired information collection, the Presidential Management Fellows (PMF) Application. OPM has determined that this application is not an information collection subject to the Paperwork Reduction Act. OPM will not publish a 30-day notice or submit the PMF Application for clearance by the Office of Management and Budget before administering the application as part of the PMF examination.

ADDRESSES: Address all comments concerning this notice to the U.S. Office of Personnel Management, PMF Program Office, 1900 E St. NW., Room 6500, Washington, DC 20415, or send via electronic mail to pmf@opm.gov.

FOR FURTHER INFORMATION CONTACT: Send via electronic mail to pmf@opm.gov.

SUPPLEMENTARY INFORMATION: OPM originally posted a 60-day notice to solicit comment on its proposal to reinstate, with revisions, an expired information collection, the PMF Application. This notice was published in the Federal Register (81 FR 4405) on July 6, 2016, and no comments were received.

OPM has determined that the annual PMF application and assessment process falls within the exception of 5 CFR 1320.3(h)(7), which establishes that “[e]xaminations designed to test the aptitude, abilities, or knowledge of the persons tested and the collection of information for identification or classification in connection with such examinations” do not constitute information collections subject to the Paperwork Reduction Act. Therefore, OPM will not publish a 30-day notice or submit the PMF Application for clearance by the Office of Management and Budget before administering the application.

The original ICR approval (3206-0082) expired in 02/2016 and is now cancelled.

Beth F. Cobert,
Acting Director.

[FR Doc. 2016-29768 Filed 12-12-16; 8:45 am]

BILLING CODE 6325-38-P